DEPARTMENT OF THE INTERIOR

Bureau of Indian Affairs

Indian Gaming

AGENCY: Bureau of Indian Affairs, Interior.

ACTION: Notice of Tribal—State Class III Gaming Compact taking effect.

SUMMARY: This publishes notice of the 2008 Class III Gaming Compact between the Nez Perce Tribe and the State of Idaho taking effect.

DATES: Effective Date: October 7, 2008

FOR FURTHER INFORMATION CONTACT: Paula L. Hart, Acting Director, Office of Indian Gaming, Office of the Deputy Assistant Secretary for Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal—State compacts for the purpose of engaging in Class III gaming activities on Indian lands. This Compact is entered into in connection with the state lottery litigation between the parties and thus presents unique circumstances resulting in our decision to neither approve nor disapprove the Compact within the 45-day statutory time frame.

Dated: September 26, 2008.
George T. Skibine,
Acting Deputy Assistant Secretary for Policy and Economic Development.

[FR Doc. E8-23710 Filed 10-6-08; 8:45 am]

BILLING CODE 4310-4N-P